DEPARTMENT OF TRANSPORTATION

Coast Guard

33 CFR Part 117

[CGD01-02-037]

Drawbridge Operation Regulations: Hutchinson River, NY

AGENCY: Coast Guard, DOT.

ACTION: Notice of temporary deviation from regulations.

SUMMARY: The Commander, First Coast Guard District, has issued a temporary deviation from the drawbridge operation regulations for the Pelham Bay railroad bridge, mile 0.5, across the Hutchinson River at New York. This temporary deviation will allow the bridge to remain closed to navigation from 10 a.m. on April 18, 2002 through 5 a.m. on April 19, 2002, and from 10 a.m. on April 22, 2002 through 5 a.m. on April 23, 2002, to facilitate repairs at the bridge.

DATES: This deviation is effective from April 18, 2002 through April 23, 2002.

FOR FURTHER INFORMATION CONTACT: Joseph Schmied, Project Officer, First Coast Guard District, at (212) 668-7195.

SUPPLEMENTARY INFORMATION: The bridge owner, the National Railroad Passenger Corporation (Amtrak), requested a temporary deviation from the drawbridge operating regulations to facilitate necessary maintenance, replacement of pinion gears and the rack, at the bridge. The performance of these repairs require the bridge to remain in the closed position.

The Coast Guard and the owner of the bridge coordinated this closure with the mariners that normally use this waterway to help facilitate this necessary bridge repair and to minimize any disruption to the marine transportation system. Therefore, as a result of that coordination effort, a temporary deviation from the drawbridge operation regulations has been approved. Under this temporary deviation the Pelham Bay railroad bridge will not open for vessel traffic from 10 a.m. on April 18, 2002 through 5 a.m. on April 19, 2002, and from 10 a.m. on April 22, 2002 through 5 a.m. on April 23, 2002.

This deviation from the operating regulations is authorized under 33 CFR 117.35, and will be performed with all due speed in order to return the bridge to normal operation as soon as possible.

Dated: March 21, 2002.
G.N. Naccara,
Rear Admiral, Coast Guard, Commander, First Coast Guard District.

[FR Doc. 02-8182 Filed 4-3-02; 8:45 am]

BILLING CODE 4910-15-P